ENVIRONMENTAL PROTECTION AGENCY

[FRL-7614-3]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or email at auby.susan@epa.gov and please refer to the appropriate EPA Information Collection Request (ICR) Number.

SUPPLEMENTARY INFORMATION:

OMB Responses to Agency Clearance Requests

OMB Approvals

EPA ICR No. 1353.07; Land Disposal Restrictions No-Migration Variances; in 40 CFR 268.6, 40 CFR 268.40; was approved 12/16/2003; OMB Number 2050-0062; expires 12/31/2006.

EPA ICR No. 1981.02; Distribution of Off-site Consequence Analysis Information under Section 112(r) (7) (H) of the Clean Air Act (CAA); in 40 CFR part 1400; was approved 12/15/2003; OMB Number 2050-0172; expires 12/31/2006.

EPA ICR No. 2046.02; NESHAP for Mercury Cell Chlor-Alkali Plants (Final Rule); in 40 CFR part 63, subpart IIIII; was approved 01/08/04; OMB Number 2060-0542; expires 01/31/2007.

EPA ICR No. 2096.02; NESHAP for Iron and Steel Foundries (Final Rule); 40 CFR part 63, subpart EEEEE; was approved 01/08/04; OMB Number 2060-0543; expires 01/31/2007.

EPA ICR No. 1739.04; NESHAP for the Printing and Publishing Industry; in 40 CFR part 63, subpart KK; was approved 01/08/2004; OMB Number 2060-0335; expires 01/31/2007.

EPA ICR No. 2050.02; NESHAP for Taconite Iron Ore Processing (Final Rule); in 40 CFR part 63, subpart RRRRR; was approved 01/06/04; OMB Number 2060-0538; expires 01/31/2007.

EPA ICR No. 0278.08; Notice of Supplemental Distribution of a Registered Pesticide Product; in 40 CFR 152.132; was approved 01/05/2004; OMB Number 2070-0044; expires 01/31/2007.

EPA ICR No. 2062.02; NESHAP: Site Remediation (Final Rule); in 40 CFR part 63, subpart GGGGG; was approved 12/24/2003; OMB Number 2060-0534; expires 12/31/2006.

EPA ICR No. 2098.02; NESHAP for Primary Magnesium Refining (Final Rule); in 40 CFR part 63, subpart TTTTT; was approved 01/05/2004; OMB Number 2060-0536; expires 01/31/2007.

EPA ICR No. 2044.02; NESHAP for Plastic Parts and Products Surface Coating (Final Rule); in 40 CFR part 63, subpart PPPP; was approved 01/06/2004; OMB Number 2060-0537; expires 01/31/2007.

EPA ICR No. 1686.05; NESHAP for the Secondary Lead Smelter Industry; in 40 CFR part 63, subpart X; was approved 12/29/2003; OMB Number 2060-0296; expires 12/31/2006.

EPA ICR No. 2072.02; NESHAP for Lime Manufacturing (Final Rule); in 40 CFR part 63, subpart WWWW; was approved 01/06/04; OMB Number 2060-0544; expires 01/31/2007.

Short Term Extensions

EPA ICR No. 1572.05; Hazardous Waste Specific Unit Requirements and Special Waste processes and Types; on 12/22/2003 OMB extended the expiration date to 03/31/2004.

Comment Filed

EPA ICR No. 1656.10; Risk Management Program Requirements and Petitions to Modify the List of Regulated Substances under Section 122(r) of the Clean Air Act (Proposed Rule); on 12/15/2003 OMB filed a comment.

EPA ICR No. 2047.01; Participation by Disadvantaged Business Enterprises in Procurement under Environmental Protection Agency (EPA) Financial Assistance Agreements in 40 CFR part 68; on 01/05/2004 OMB filed a comment.

Dated: January 20, 2004.
Doreen Sterling,
Acting Director, Collection Strategies Division.

[FR Doc. 04-1681 Filed 1-26-04; 8:45 am]

BILLING CODE 6560-50-P